DEPARTMENT OF TRANSPORTATION

Federal Aviation Administration

14 CFR Part 39

[Docket No. 2000-CE-08-AD; Amendment 39-11594; AD 2000-04-12]

RIN 2120-AA64

Airworthiness Directives; Cameron Balloons Ltd. (Thunder & Colt) Titanium Propane Cylinders, Part Number (P/N) CB2380 and P/N CB2383

AGENCY: Federal Aviation Administration, DOT.

ACTION: Final rule; request for comments.

SUMMARY: This amendment adopts a new airworthiness directive (AD) that applies to all aircraft (specifically balloons) that incorporate certain Cameron Balloons Ltd. (Thunder and Colt) titanium propane cylinders, part number (P/N) CB2380 and P/N CB2383. This AD requires that you remove from service any of the affected titanium propane cylinders and replace each affected cylinder with an FAA-approved airworthy propane cylinder. This AD is the result of mandatory continuing airworthiness information (MCAI) issued by the airworthiness authority for the United Kingdom. The actions specified by this AD are intended to prevent titanium propane cylinders from cracking and releasing propane gas vapor while the balloon is in service. This could result in a propane explosion and fire.

DATES: Effective March 13, 2000.

The FAA must receive any comments on this rule on or before April 17, 2000.

ADDRESSES: Submit comments in triplicate to the Federal Aviation Administration (FAA), Central Region, Office of the Regional Counsel, Attention: Rules Docket No. 2000-CE-08-AD, 901 Locust, Room 506, Kansas City, Missouri 64106.

You may get the service information referenced in this AD from Cameron Balloons Ltd/Thunder and Colt, St. Johns Street, Bedminster, Bristol; BS3 4NH; telephone: +44 (0)117 9637216; facsimile: +44 (0)177 966168; or Cameron Balloons, P.O. Box 3672, Ann Arbor, Michigan 46106; telephone: (734) 426-5525; facsimile: (734) 426-5026. You may examine this information at the FAA, Central Region, Office of the Regional Counsel, Attention: Rules Docket No. 2000-CE-08-AD, 901 Locust, Room 506, Kansas City, Missouri 64106; or at the Office of the Federal Register, 800 North Capitol Street, NW, suite 700, Washington, DC.

FOR FURTHER INFORMATION CONTACT: Roger Chudy, Aerospace Engineer, FAA, Small Airplane Directorate, 901 Locust, Room 301, Kansas City, Missouri 64106; telephone: (816) 329-4140; facsimile: (816) 329-4090.

SUPPLEMENTARY INFORMATION:

Discussion

What events have caused this AD?: The Civil Aviation Authority (CAA), which is the airworthiness authority for the United Kingdom, recently notified the FAA that an unsafe condition may exist on aircraft (specifically balloons) that incorporate certain Cameron Balloons Ltd. (Thunder and Colt) titanium propane cylinders, part number (P/N) CB2380 and P/N CB2383.

The CAA advises that fatigue may cause the longitudinal weld on these titanium propane cylinders to crack. This would cause the propane fuel to leak from these cylinders.

What are the consequences if the condition is not corrected?: This condition, if not corrected, could lead to a propane explosion and fire.

Relevant Service Information

Is there service information that applies to this subject?: Yes. The following service bulletins address this issue:

—Cameron Balloons Ltd. and Thunder & Colt has issued Alert Service Bulletin SB8, dated January 28, 2000; and

—Cameron Balloons Alert Service Bulletin 5, dated February 2, 2000.

What are the provisions of these service bulletins?:The applicability and provisions of these service bulletins are as follows:

Cameron Balloons Ltd. and Thunder & Colt Alert Service Bulletin SB8: This service information applies to any aircraft (specifically balloons) that incorporate one of the affected titanium propane cylinders, and specifies the following:

—Cylinders must not be refilled.

—Cylinders must be emptied of all fuel and depressurized within 7 days.

—Cylinders must be returned to Cameron Balloons factory after emptying.

Cameron Balloons Alert Service Bulletin 5: This service information applies to any aircraft (specifically balloons) that incorporate one of the affected titanium propane cylinders, and specifies the following:

—Tanks must not be refilled after February 29, 2000.

—Tanks must be emptied of all fuel and depressurized by February 29, 2000.

—Tanks must be returned, empty and depressurized, to the Cameron Balloons U.S. factory no later than February 29, 2000.

The Foreign Airworthiness Authority's Action

What action did the CAA take?: The CAA did the following in order to assure the continued airworthiness of aircraft (specifically balloons) that incorporate these titanium propane cylinders in the United Kingdom:

—Classified the actions specified in Cameron Balloons Ltd. and Thunder & Colt Alert Service Bulletin SB8, dated January 28, 2000, as mandatory; and

—Issued United Kingdom AD 001-01-2000, dated January 31, 2000.

Was this in accordance with the bilateral airworthiness agreement?: Yes. Pursuant to the applicable bilateral airworthiness agreement, the CAA has kept the FAA informed of the situation described above.

The FAA's Determination and an Explanation of the Provisions of the AD

What has the FAA decided?: After examining the circumstances and reviewing all available information related to the incidents described above including that received from the CAA, the FAA has determined that:

—An unsafe condition exists or could develop on aircraft (specifically balloons) that incorporate certain Cameron Balloons Ltd. (Thunder and Colt) titanium propane cylinders, P/N CB2380 and P/N CB2383;

—The affected titanium propane cylinders should be removed from service; and

—AD action should be taken to prevent titanium propane cylinders from cracking and releasing propane gas vapor while the balloon is in service. This could result in a propane explosion and fire.

What does this AD require?: This AD requires that you remove from service any of the affected titanium propane cylinders and replace each affected cylinder with an FAA-approved airworthy propane cylinder.

Compliance Time of This AD

What is the compliance time of this AD?: Within 14 calendar days after the effective date of this AD.

Why is the compliance time in calendar time instead of hours time-in-service?: The FAA has determined that a calendar time for compliance is necessary because the unsafe condition described by this AD is not directly related to titanium propane cylinder use. The chance of this situation occurring is the same for aircraft with 10 hours time-in-service (TIS) that incorporate a titanium propane cylinder as it is for aircraft with 500 hours TIS that incorporate a titanium propane cylinder.

For this reason, the FAA has determined that a compliance based on calendar time should be utilized in this AD in order to assure that the unsafe condition is addressed in a reasonable time period on aircraft that incorporate at least one of the affected titanium propane cylinders.

Will the public have the opportunity to comment prior to the issuance of the rule?: No. Since a situation exists that requires the immediate adoption of this regulation, the FAA finds that notice and opportunity for public prior comment hereon are impracticable, and that good cause exists for making this amendment effective in less than 30 days.

Comments Invited

Although this action is in the form of a final rule and was not preceded by notice and opportunity for public comment, the FAA invites comments on this rule. You may submit whatever written data, views, or arguments you choose. You need to include the rule's docket number and submit your comments in triplicate to the address specified under the caption “ADDRESSES.” The FAA will consider all comments received on or before the closing date. We may amend this rule in light of comments received. Factual information that supports your ideas and suggestions is extremely helpful in evaluating the effectiveness of the AD action and determining whether we need to take additional rulemaking action.

The FAA is re-examining the writing style we currently use in regulatory documents, in response to the Presidential memorandum of June 1, 1998. That memorandum requires federal agencies to communicate more clearly with the public. We are interested in your comments on whether the style of this document is clearer, and any other suggestions you might have to improve the clarity of FAA communications that affect you. You can get more information about the Presidential memorandum and the plain language initiative at http://www.plainlanguage.gov.

The FAA specifically invites comments on the overall regulatory, economic, environmental, and energy aspects of the rule that might suggest a need to modify the rule. You may examine all comments we receive before and after the closing date of the rule in the Rules Docket. We will file a report in the Rules Docket that summarizes each FAA contact with the public that concerns the substantive parts of this AD.

If you want us to acknowledge the receipt of your comments, you must include a self-addressed, stamped postcard. On the postcard, write “Comments to Docket No. 2000-CE-08-AD.” We will date stamp and mail the postcard back to you.

Regulatory Impact

These regulations will not have a substantial direct effect on the States, on the relationship between the national Government and the States, or on the distribution of power and responsibilities among the various levels of government. Therefore, the FAA has determined that this final rule does not have federalism implications under Executive Order 13132.

The FAA has determined that this regulation is an emergency regulation that must be issued immediately to correct an unsafe condition in aircraft, and is not a significant regulatory action under Executive Order 12866. We determined that this action involves an emergency regulation under DOT Regulatory Policies and Procedures (44 FR 11034, February 26, 1979). If the FAA determines that this emergency regulation otherwise would be significant under DOT Regulatory Policies and Procedures, we will prepare a final regulatory evaluation and place it in the Rules Docket (otherwise, an evaluation is not required). You may obtain a copy of this evaluation, if filed, from the Rules Docket.

List of Subjects in 14 CFR Part 39

Air transportation, Aircraft, Aviation safety, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding a new airworthiness directive (AD) to read as follows:

2000-04-12 Cameron Balloons LTD/Thunder and Colt: Amendment 39-11594; Docket No. 2000-CE-08-AD.

(a) What aircraft are affected by this AD?: Any aircraft (specifically balloons), certificated in any category, that incorporate at least one of the following titanium propane cylinders:

Part No. | Serial No.
CB2380 | All serial numbers up to and including BT0143
CB2383 | All serial numbers up to and including BT0076

(b) Who must comply with this AD?: Anyone who wishes to operate an aircraft (specifically balloons) that:

(1) Is certificated in any category and listed on the U.S. Register; and

(2) Incorporates at least one of the above-referenced titanium propane cylinders.

(c) What problem does this AD address?: The actions specified by this AD are intended to prevent titanium propane cylinders from cracking and releasing propane gas vapor while the balloon is in service. This could result in a propane explosion and fire.

(d) What must I do to address this problem?: To address this problem, you must accomplish the following actions:

(1) Within the next 14 calendar days after the effective date of this AD, you must remove from service any of the titanium propane cylinders listed in paragraph (a) of this AD and replace each affected cylinder with an FAA-approved airworthy propane cylinder that is not listed in paragraph (a) of this AD; and

(2) As of the effective date of this AD, you must not incorporate, an any aircraft (specifically balloons), any titanium propane cylinder listed in paragraph (a) of this AD.

(e) What specific procedures must I use to accomplish the action?: No procedures are necessary to remove the titanium propane cylinders from operation. However, the following contains information you should use when handling these titanium propane cylinders:

(1) Instructions for handling and exchanging the affected titanium propane cylinders are included in Cameron Balloons Ltd. and Thunder & Colt Alert Service Bulletin SB8, dated January 28, 2000.

(2) The current applicable Department of Transportation (DOT) regulations (49 CFR part 171, et. seq.) shall be utilized when handling or shipping hazardous materials associated with titanium propane cylinders.

(f) Can I comply with this AD in any other way?: Yes.

(1) You may use an alternative method of compliance or adjust the compliance time if:

(i) Your alternative method of compliance provides an equivalent level of safety; and

(ii) The Manager, Small Airplane Directorate, approves your alternative. Submit your request through an FAA Principal Maintenance Inspector, who may add comments and then send it to the Manager.

(2) This AD applies to any titanium propane cylinder referenced in the Applicability section of this AD, regardless of whether it has been modified, altered, or repaired in the area subject to the requirements of this AD. For those titanium propane cylinders that have been modified, altered, or repaired so that the performance of the requirements of this AD is affected, the owner/operator must request approval for an alternative method of compliance in accordance with paragraph (f)(1) of this AD. The request should include an assessment of the effect of the modification, alteration, or repair on the unsafe condition addressed by this AD; and, if you have not eliminated the unsafe condition, specific actions you propose to address it.

(g) Where can I get information about any already-approved alternative methods of compliance?: Contact the Small Airplane Directorate, 901 Locust, Room 301, Kansas City, Missouri 64106; telephone: (816) 329-4140; facsimile: (816) 329-4090.

(h) Who should I contact if I have questions regarding the service information?: Direct all questions or technical information related to Cameron Balloons Ltd and Thunder & Colt Alert Service Bulletin SB8, dated January 28, 2000, to Cameron Balloons Ltd/Thunder and Colt, St. Johns Street, Bedminster, Bristol; BS3 4NH; telephone: +44 (0)117 9637216; facsimile: +44 (0)177 966168; or Cameron Balloons U.S., Ann Arbor, Michigan 46106; telephone: (734) 426-5525; facsimile: (734) 426-5026. You may examine this service information at the FAA, Central Region, Office of the Regional Counsel, 901 Locust, Room 506, Kansas City, Missouri 64106.

(i) Has another airworthiness authority addressed this action?: Yes. The subject of this AD is addressed in United Kingdom AD 001-01-2000, dated January 31, 2000.

(j) When does this amendment become effective?: This amendment becomes effective on March 13, 2000.

Issued in Kansas City, Missouri, on February 15, 2000.
Michael Gallagher,
Manager, Small Airplane Directorate, Aircraft Certification Service.

[FR Doc. 00-4070 Filed 2-18-00; 8:45 am]

BILLING CODE 4910-13-P